DEPARTMENT OF JUSTICE

Office of Community Oriented Policing Services

Agency Information Collection Activities: Proposed Collection; Comment Request

ACTION: Notice of information collection under review; reinstatement with change, of a previously approved collection for which approval has expired; COPS MORE (Making Officer Redeployment Effective) '98 Progress Report.

The Department of Justice, Office of Community Oriented Policing Services, has submitted the following information collection request for review and clearance in accordance with the Paperwork Reduction Act of 1995. Office of Management and Budget approval is being sought for the information collection listed below. This proposed information collection was previously published in the Federal Register on March 14, 2001 (Vol 66, page 14937), allowing for a 60-day public comment period.

The purpose of this notice is to allow an additional 30 days for public comment until July 6, 2001. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Deputy Clearance Officer, Suite 1220, 1331 Pennsylvania Avenue, NW, Washington, DC 20503.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This information

(1) Type of Information Collection: Reinstatement, with change, of a previously approved collection for which approval has expired.

(2) Title of the Form/Collection: COPS MORE (Making Officer Redeployment Effective) '98 Progress Report.

(3) Agency form number, if any, and the applicable component of the Department of Justice sponsoring the collection: Form: COPS 037/01. Office of Community Oriented Policing Services, U.S. Department of Justice.

(4) Affected public who will be asked or required to respond, as well as a brief abstract: Primary: state, Local or Tribal Government Agencies that have received funding under the COPS MORE '98 grant program are required to respond.

The information collected on the COPS MORE '98 Progress Report is necessary track summary data on the characteristics of the civilians hired, and/or the requirement purchased with COPS funding and to monitor the progress of the grantee in implementing their COPS MORE '98 Grant. In addition, submission of the COPS MORE '98 Progress Report will assist the COPS Office in identifying recipients which may be in need of technical assistance concerning the proper utilization of their COPS MORE '98 Grant Award.

(5) An estimate of the total number of respondents and the amount of time estimated for an average respondent to respond: COPS MORE '98 Progress Report: Approximately 1,830 respondents, at 5 hours per respondent (including record-keeping).

(6) An estimate of the total public burden (in hours) associated with the collection: The approximated number of burden hours associated with this information collection is 9,150 hours. If additional information is required contact: Mrs. Brenda E. Dyer, Deputy Clearance Officer, United States Department of Justice, Information Management and Security Staff, Justice Management Division, Suite 1220, National Place, 1331 Pennsylvania Avenue NW, Washington, DC 20530.

Dated: May 31, 2001.
Brenda E. Dyer,
Department Deputy Clearance Officer, United States Department of Justice.

[FR Doc. 01-14172 Filed 6-5-01; 8:45 am]

BILLING CODE 4410-AT-M